DEPARTMENT OF DEFENSE

Office of the Secretary

[Docket ID DoD-2014-OS-0054]

Proposed Collection; Comment Request

AGENCY: Pentagon Force Protection Agency, DoD.

ACTION: Notice.

SUMMARY: In compliance with Section 3506(c)(2)(A) of the Paperwork Reduction Act of 1995, the Pentagon Force Protection Agency announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by June 23, 2014.

ADDRESSES: You may submit comments, identified by docket number and title, by any of the following methods:

• Federal eRulemaking Portal:http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Pentagon Force Protection Agency Project Integration Directorate (PFPA\PID), 9000 Defense Pentagon, Washington, DC 20301-9000, ATTN: PID, or email at PFPAHSPD-12@pfpa.mil.

SUPPLEMENTARY INFORMATION: Title; Associated Form; and OMB Number: Privilege Management Program (PMP); DD Form 2249; OMB Control Number 0704-TBD.

Needs and Uses: The information collection requirement is necessary to facilitate background investigations and properly assign privileges to the customers utilized within the Pentagon Reservation and National Capital Region (NCR). The form is evidence the customer has been properly vetted and has provided justification for access to the locations needed to perform their occupational duties.

Affected Public: Individuals and Households

Annual Burden Hours: 3,332

Number of Respondents: 31,989

Responses per Respondent: 1.25

Total Annual Responses: 39,986

Average Burden per Response: 5 minutes

Frequency: On occasion

Respondents are tenants and visitors who are provided identification badges, submit biometric attributes for collection, and/or have access privileges assigned. The PMP collects data which is stored in the PMP database at the time of enrollment. Having qualified agents provide credentialing and enrollment services is essential to maintaining daily operations and access rights to various installations throughout the NCR.

Dated: April 18, 2014.
Aaron Siegel,
Alternate OSD Federal Register Liaison Officer, Department of Defense.

[FR Doc. 2014-09229 Filed 4-22-14; 8:45 am]

BILLING CODE 5001-06-P